DEPARTMENT OF LABOR

Agency Information Collection Activities; Submission for OMB Review; Comment Request; Labor Organization and Auxiliary Reports

AGENCY: Office of Labor-Management Standards, Department of Labor.

ACTION: Notice of information collection; request for comment.

SUMMARY: In compliance with the Paperwork Reduction Act of 1995 (PRA), the DOL is soliciting public comments regarding the proposal to amend the currently approved information collection request under OMB Control Number 1245-0003, specifically its proposal to revise the Form LM-10 Employer Report, and the Forms LM-20 and 21 filed by labor relations consultants, and their corresponding instructions, to require employers and their consultants to provide the Employment Identification Number (EIN) of the filer and other parties to the agreement for the performance of covered activities under Section 203 of the Labor—Management Reporting and Disclosure Act (LMRDA). Additionally, the Department proposes to revise the Form LM-20 and its instructions to require primary consultants to provide the EIN for sub-consultants who performed covered activities under any part of the agreement and for sub-consultants to provide EIN and a mailing address for the primary consultants for whom they are performing services pursuant to the agreement. The Department also seeks to require each filer to provide the email addresses of the corresponding parties to the agreement that triggered the reporting requirement (underlying agreement). The email addresses will not appear on the submitted forms or otherwise be publicly available, but OLMS will seek to use the email addresses to ensure compliance. Finally, the Department proposes a technical revision to the Form LM-1 instructions, Item 9, to match the corresponding item on the form.

DATES: The OMB will consider all written comments that the agency receives on or before December 2, 2024.

ADDRESSES: Written comments and recommendations for the proposed information collection should be sent within 60 days of publication of this notice to www.reginfo.gov/public/do/PRAMain. Find this particular information collection by selecting “Currently under 60-day Review—Open for Public Comments” or by using the search function.

FOR FURTHER INFORMATION CONTACT: Karen Torre, Chief of the Division of Interpretations and Regulations, Office of Labor-Management Standards, U.S. Department of Labor, 200 Constitution Avenue NW, Room N-5609, Washington, DC 20210, by telephone at (202) 693-0123 (this is not a toll-free number), (800) 877-8339 (TTY/TDD), or by email at olms-public@dol.gov.

SUPPLEMENTARY INFORMATION: The Secretary of Labor administers and enforces provisions of the Labor-Management Reporting and Disclosure Act of 1959, as amended, Public Law 86-257, 73 Stat. 519-546, codified at 29 U.S.C. 401-531. The LMRDA, in part, establishes labor-management transparency through reporting and disclosure requirements for labor organizations and officials, employers, labor relations consultants, and surety companies. Section 203(a) of the LMRDA imposes reporting requirements on employers who enter into specified financial transactions or arrangements with a labor union, union official, employee, or labor relations consultant. 29 U.S.C. 433(a). Section 203(b) of the LMRDA additionally requires public disclosure of certain agreements or arrangements between any person, including labor relations consultants and other individuals and organizations, to undertake certain activities concerning employees or labor organizations. 29 U.S.C. 433(b). Under LMRDA section 208, the Secretary of Labor is authorized to issue, amend, and rescind rules and regulations prescribing the form and publication of required reports, as well as “such other reasonable rules and regulations . . . as [s]he may find necessary to prevent the circumvention or evasion of such reporting requirements.” 29 U.S.C. 438. The Secretary published the Form LM-10 “Employer Report” for employers, and the Form LM-20 “Agreement and Activities Report” and Form LM-21 “Receipts and Disbursements Report” for labor relations consultants.

The Department seeks to amend the Form LM-10, Form LM-20, and Form LM-21 to supplement the identifying information OLMS already collects from employers and consultants. On Form LM-10, the Department seeks to revise Item 3 to include the EIN of the employer and to revise Item 9.d to include the EIN for each of the consultants. On Form LM-20, the Department seeks to revise Item 2 to include the EIN of the consultant filing and Item 6 to include the EIN for the employer. On Form LM-21, the Department seeks to revise Item 3 to include the EIN of the consultant filing, Item 5a and Item 15a to include the EIN of the employer with which the consultant entered into an agreement, and Item 15c to include the EIN of the individual to whom any disbursement was made. An EIN uniquely identifies each employer or consultant, and its inclusion on the Form LM-10, Form LM-20, and Form LM-21 would avoid confusion and allow the public and employees to confirm the identity of filers and consultants more easily. This revision will also improve the efficiency of OLMS operations, as OLMS will be able to use the unique EIN number to differentiate existing filers from new filers, and crossmatch employer and consultant reports more effectively. If a consultant does not have an EIN, OLMS would require that the filing employer or other consultant identify the consultant by providing the consultant's LM file number, if it already had obtained one. In all situations, OLMS would require the filer to provide its email address and the email addresses for the other parties to the underlying agreement. While the email addresses would not appear on the submitted form, OLMS would be able to use the email addresses to contact parties to ensure compliance.

The Department also seeks to amend the Form LM-20 to differentiate requirements for primary consultants and sub-consultants to the underlying employer-consultant agreement. These revisions to the Form LM-20 would require primary consultants to disclose whether any individuals through whom an employer-consultant agreement was performed is a sub-consultant and to provide the name and EIN of that sub-consultant in Item 11.d, as well as require sub-consultants to provide the name, EIN, and mailing address of the primary consultant the sub-consultant entered into agreement within Item 8. These revisions would help avoid confusion and allow the public and employees to confirm the identity of filers and consultants more easily, as well as provide greater efficiency to OLMS for cross-matching employer and consultant reports.

These revisions neither change which employers or consultants are required to file Form LM-10, Form LM-20, and Form LM-21 reports, nor change the frequency with which any of the parties must file. The Department estimates that these revisions would add an additional five minutes of reporting burden for each of the Forms LM-10 and LM-21, and eight additional minutes for the Form LM-20, and would not affect the recordkeeping burden, since filers would already retain this information. The Department made this burden determination for the following reasons. Most employers and consultants already have access to their own EIN and will spend little to no time filling out this information. Many employers and consultants will also have little difficulty obtaining the EIN of other parties they work with and will spend little to no time filling out this information. Those employers and consultants that do not have access to their own EIN or the EIN of a party they are in an underlying agreement with can generally solve the problem relatively quickly by requesting the EIN, which will not cause a heavy burden. As such, the Department does not consider this a significant burden on any party filling out these forms. The Department estimates these revisions will result in a reporting burden increase of 3,235 minutes for Form LM-10, 5,338 minutes for Form LM-20, and 485 minutes for Form LM-21. This results in a total increase of 9,058 burden minutes, or 150.97 burden hours.

The Department also seeks to amend the instructions for Form LM-1 to more accurately reflect the Form. The instructions for Item 9 will be updated to ask the filer for the name, title, organization, and address for any place other than the labor organization's mailing address where records necessary to verify the report are kept. This is a technical correction and will have no impact on the burden for any filers.

The Department is seeking comment on the collection of the EIN on Forms LM-10, LM-20, and LM-21, as well as revisions to Form LM-20 to differentiate between primary consultants and sub-consultants to the employer-consultant agreement, which would additionally require the disclosure of EIN for those sub-consultants. The Department is seeking comments on the necessity of these revisions for the performance of OLMS, the accuracy of the estimated reporting burden, and any methods by which OLMS could continue to minimize the burden of collecting information. The Department is also seeking comments on handling instances when a consultant or employer does not provide or does not have an EIN or a file number given by OLMS.

If finalized after notice-and-comment, this ICR revision would require employers and labor relations consultants to file their reports, with the required EIN information, upon OIRA approval and necessary revisions to the electronic filing system.

As this proposed form revision requires a revision to an existing information collection, the Department is submitting, contemporaneous with the publication of the document, an ICR to amend the burden estimates under OMB Control Number 1245-0003 and revise the PRA clearance to address the clearance term. A copy of this ICR, with applicable supporting documentation, including among other items a description of the likely respondents, proposed frequency of response, and estimated total burden, may be obtained free of charge from the RegInfo.gov website at: https://www.reginfo.gov/public/do/PRAOMBHistory?ombControlNumber=1245-0003 (this link will be updated following publication of this proposal) or from the Department by contacting OLMS at 202-693-0123 (this is not a toll free number)/email: OLMS-Public@dol.gov.

Comments submitted in response to this notice will be considered, summarized, and/or included in the ICR the Department will submit to the Office of Management and Budget for approval of the information collection request; they will also become a matter of public record. Commenters are encouraged not to submit sensitive information (e.g., confidential business information or personally identifiable information such as a social security number).

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: Department of Labor, Office of Labor-Management Standards.

Type of Review: Revision of a currently approved collection.

Title of Collection: Labor Organization and Auxiliary Reports.

OMB Control Number: 1245-0003.

Forms: LM-1—Labor Organization Information Report, LM-2, LM-3, LM- 4—Labor Organization Annual Report, Simplified Annual Report, LM-10—Employer Report, LM-15—Trusteeship Report, LM-15A—Report on Selection of Delegates and Officers, LM-16—Terminal Trusteeship Report, LM-20—Agreement and Activities Report, LM-21—Receipts and Disbursements Report, LM-30—Labor Organization Officer and Employee Report, S-1—Surety Company Annual Report.

Affected Public: Private Sector—Business or other for-profits and not-for-profit institutions.

Total Estimated Number of Annual Respondents: 32,791.

Total Estimated Number of Responses: 35,067.

Frequency: Varies.

Total Estimated Annual Time Burden: 4,644,740 hours.

Total Estimated Annual Other Costs Burden: $0.

(Authority: 44 U.S.C. 3506(c)(2)(A))

Dated: September 27, 2024.
Jeffrey Freund,
Director, Office of Labor-Management Standards.

[FR Doc. 2024-22805 Filed 10-2-24; 8:45 am]

BILLING CODE 4510-86-P